FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th and Constitution Avenue NW, Washington, DC 20551-0001, not later than April 6, 2020.

A. Federal Reserve Bank of Chicago (Colette A. Fried, Assistant Vice President) 230 South LaSalle Street, Chicago, Illinois 60690-1414:

1. Matthew J. Lujano, Carroll, Iowa; and Margaret A. White, Westside, Iowa; to acquire and to retain, respectively, voting shares of Halbur Bancshares, Inc., and thereby indirectly acquire or retain voting shares of Westside State Bank, both of Westside, Iowa, and acting in concert with James J. White, Westside, Iowa, to form the White Family Control Group.

B. Federal Reserve Bank of Kansas City (Dennis Denney, Assistant Vice President) 1 Memorial Drive, Kansas City, Missouri 64198-0001:

1. Angel Reyes, Taos, New Mexico; Christopher Romero, San Cristobal, New Mexico; and Rebeca Romero Rainey, Arlington, Virginia; to be approved as members acting in concert with the Romero Family Control Group to acquire voting shares of Centinel Bank Shares, Inc. and thereby indirectly acquire voting shares of Centinel Bank of Taos, both of Taos, New Mexico.

Board of Governors of the Federal Reserve System, March 17, 2020.
Yao-Chin Chao,
Assistant Secretary of the Board.

[FR Doc. 2020-05916 Filed 3-19-20; 8:45 am]

BILLING CODE 6210-01-P